DEPARTMENT OF COMMERCE.

International Trade Administration

[C-351-818, C-469-804]

Cut-to-Length Carbon Steel Plate from Brazil and Spain; Extension of Time Limits for Final Results of Expedited Five-year (“Sunset”) Reviews of Countervailing Duty Orders

AGENCY: Import Administration, International Trade Administration, U.S. Department of Commerce.

EFFECTIVE DATE: February 10, 2006.

FOR FURTHER INFORMATION CONTACT: Martha Douthit or Dana Mermelstein, AD/CVD Operations, Office 6, Import Administration, International Trade Administration, U.S. Department of Commerce, 14th Street & Constitution Avenue, NW., Washington, DC 20230; telephone: 202-482-5050 or 202-482-1391, respectively.

Background

On November 1, 2005, the Department of Commerce (“the Department”) published in the Federal Register the notice of initiation of the sunset reviews of the countervailing duty orders on cut-to-length carbon steel plate (“CTL steel plate”) from Brazil and Spain. See Initiation of Five-year (“Sunset”) Reviews, 70 FR 65884 (November 1, 2005). Based on adequate responses from the domestic interested parties and inadequate responses from respondent interested parties, the Department is conducting expedited sunset reviews of these countervailing duty orders.

Extension of Time Limit for Final Results of Reviews

In accordance with section 751(c)(5)(B) of the Tariff Act of 1930, as amended (“the Act”), the U.S. Department of Commerce, (“the Department”) may extend the period of time for issuing the final results of an expedited sunset review if it determines that the review is extraordinarily complicated. As set forth in subsection 751(c)(5)(C)(v) of the Act, the Department may treat a sunset review as extraordinarily complicated if it is a review of a transition order, as is the case in these proceedings. A transition order is defined as including countervailing duty orders which were in effect on January 1, 1995, the date on which the WTO Agreement's provisions on sunset reviews went into effect. Transition orders are treated as issued on January 1, 1995. See section 751(c)(6)(D) of the Act. The countervailing duty orders on CTL steel plate from Brazil and Spain were issued prior to January 1, 1995; as such they are deemed transition orders for purposes of the sunset proceeding.

In accordance with section 751(c)(5)(C)(v) of the Act, the Department has determined that the sunset reviews of the countervailing duty orders on CTL steel plate from Brazil and Spain require additional time for the Department to complete its analysis. The Department's final results of these sunset reviews were scheduled for completion on March 1, 2006. The Department will extend the deadlines in these proceedings by 90 days and, as a result, issue the final results of these expedited sunset reviews no later than May 30, 2006.

This notice is issued in accordance with sections 751(c)(5)(B) and 751(c)(5)(C)(v) of the Act.

Dated: February 6, 2006.
Stephen J. Claeys,
Deputy Assistant Secretary for Import Administration.

[FR Doc. E6-1879 Filed 2-9-06; 8:45 am]

BILLING CODE 3510-DS-S